SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: April 1-30, 2020

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (f)(13) and 18 CFR 806.22 (f) for the time period specified above:

Water Source Approval—Issued Under 18 CFR 806.22(f)

1. Chesapeake Appalachia, L.L.C.; Pad ID: Coyote Run; ABR-202004002; Tuscarora Township, Bradford County, Pa.; Consumptive Use of Up to 7.5000 mgd; Approval Date: April 14, 2020.

2. Chesapeake Appalachia, L.L.C.; Pad ID: Yengo; ABR-20100206.R2; Cherry Township, Sullivan County, Pa.; Consumptive Use of Up to 7.5000 mgd; Approval Date: April 14, 2020.

3. Chesapeake Appalachia, L.L.C.; Pad ID: Acla; ABR-20100324.R2; Terry Township, Bradford County, Pa.; Consumptive Use of Up to 7.5000 mgd; Approval Date: April 14, 2020.

4. Chesapeake Appalachia, L.L.C.; Pad ID: Claude; ABR-20100319.R2; Auburn Township, Susquehanna County, Pa.; Consumptive Use of Up to 7.5000 mgd; Approval Date: April 14, 2020.

5. Chesapeake Appalachia, L.L.C.; Pad ID: Sivers; ABR-20100320.R2; Tuscarora Township, Bradford County, Pa.; Consumptive Use of Up to 7.5000 mgd; Approval Date: April 14, 2020.

6. Chesapeake Appalachia, L.L.C.; Pad ID: Updike; ABR-20100305.R2; West Burlington Township, Bradford County, Pa.; Consumptive Use of Up to 7.5000 mgd; Approval Date: April 14, 2020.

7. Chesapeake Appalachia, L.L.C.; Pad ID: Engelke; ABR-20100323.R2; Troy Township, Bradford County, Pa.; Consumptive Use of Up to 7.5000 mgd; Approval Date: April 14, 2020.

8. Chesapeake Appalachia, L.L.C.; Pad ID: Masso; ABR-20100216.R2; Auburn Township, Susquehanna County, Pa.; Consumptive Use of Up to 7.5000 mgd; Approval Date: April 14, 2020.

9. Seneca Resources Company, LLC; Pad ID: DCNR 595 Pad E; ABR-20100307.R2; Blossburg Borough, Tioga County, Pa.; Consumptive Use of Up to 4.0000 mgd; Approval Date: April 14, 2020.

10. Chief Oil & Gas, LLC; Pad ID: Kupscznk Drilling Pad #1; ABR-20100224.R2; Springville Township, Susquehanna County, Pa.; Consumptive Use of Up to 2.0000 mgd; Approval Date: April 14, 2020.

11. Chief Oil & Gas, LLC; Pad ID: Stone Drilling Pad #1; ABR-20100228.R2; Springville Township, Susquehanna County, Pa.; Consumptive Use of Up to 2.0000 mgd; Approval Date: April 14, 2020.

12. Repsol Oil & Gas USA, LLC; Pad ID: LUTZ (01 015); ABR-20100213.R2; Troy Township, Bradford County, Pa.; Consumptive Use of Up to 6.0000 mgd; Approval Date: April 14, 2020.

13. Repsol Oil & Gas USA, LLC; Pad ID: BARRETT (03 009); ABR-20100230.R2; Columbia Township, Bradford County, Pa.; Consumptive Use of Up to 6.0000 mgd; Approval Date: April 20, 2020.

14. Repsol Oil & Gas USA, LLC; Pad ID: HARVEST HOLDINGS (01 036); ABR-20100225.R2; Canton Township, Bradford County, Pa.; Consumptive Use of Up to 6.0000 mgd; Approval Date: April 20, 2020.

15. Chesapeake Appalachia, L.L.C.; Pad ID: Plymouth; ABR-20100341.R2; Terry Township, Bradford County, Pa.; Consumptive Use of Up to 7.5000 mgd; Approval Date: April 22, 2020.

16. Chesapeake Appalachia, L.L.C.; Pad ID: Hoffman; ABR-20100328.R2; Towanda Township, Bradford County, Pa.; Consumptive Use of Up to 7.5000 mgd; Approval Date: April 22, 2020.

17. Repsol Oil & Gas USA, LLC; Pad ID: PUTNAM (01 076) L; ABR-20100233.R2; Armenia Township, Bradford County, Pa.; Consumptive Use of Up to 6.0000 mgd; Approval Date: April 22, 2020.

18. Repsol Oil & Gas USA, LLC; Pad ID: PUTNAM (01 077) L; ABR-20100212.R2; Armenia Township, Bradford County, Pa.; Consumptive Use of Up to 6.0000 mgd; Approval Date: April 22, 2020.

19. Repsol Oil & Gas USA, LLC; Pad ID: DCNR 587 (02 018); ABR-20100219.R2; Ward Township, Tioga County, Pa.; Consumptive Use of Up to 6.0000 mgd; Approval Date: April 22, 2020.

20. Chesapeake Appalachia, L.L.C.; Pad ID: Pierson 1; ABR-202004001; Rush Township, Susquehanna County, Pa.; Consumptive Use of Up to 7.5000 mgd; Approval Date: April 27, 2020.

21. Chesapeake Appalachia, L.L.C.; Pad ID: LaRue 1A; ABR-202004003; Rush Township, Susquehanna County, Pa.; Consumptive Use of Up to 7.5000 mgd; Approval Date: April 27, 2020.

22. Chesapeake Appalachia, L.L.C.; Pad ID: LaRue 1B; ABR-202004004; Rush Township, Susquehanna County, Pa.; Consumptive Use of Up to 7.5000 mgd; Approval Date: April 27, 2020.

23. Chesapeake Appalachia, L.L.C.; Pad ID: Hardic; ABR-202004005; Rush Township, Susquehanna County, Pa.; Consumptive Use of Up to 7.5000 mgd; Approval Date: April 27, 2020.

24. Chesapeake Appalachia, L.L.C.; Pad ID: Kalinowski; ABR-20100332.R2; West Burlington Township, Bradford County, Pa.; Consumptive Use of Up to 7.5000 mgd; Approval Date: April 30, 2020.

25. Chesapeake Appalachia, L.L.C.; Pad ID: Leaman; ABR-20100342.R2; West Burlington Township, Bradford County, Pa.; Consumptive Use of Up to 7.5000 mgd; Approval Date: April 30, 2020.

26. Chesapeake Appalachia, L.L.C.; Pad ID: Rosalie; ABR-20100348.R2; Windham Township, Wyoming County, Pa.; Consumptive Use of Up to 7.5000 mgd; Approval Date: April 30, 2020.

27. Chesapeake Appalachia, L.L.C.; Pad ID: Potter; ABR-20100401.R2; Terry Township, Bradford County, Pa.; Consumptive Use of Up to 7.5000 mgd; Approval Date: April 30, 2020.

28. Chief Oil & Gas, LLC; Pad ID: Duane Jennings Drilling Pad #1; ABR-20100334.R2; Granville Township, Bradford County, Pa.; Consumptive Use of Up to 2.0000 mgd; Approval Date: April 30, 2020.

29. Chief Oil & Gas, LLC; Pad ID: Sechrist Drilling Pad #1; ABR-20100337.R2; Canton Township, Bradford County, Pa.; Consumptive Use of Up to 2.0000 mgd; Approval Date: April 30, 2020.

30. XTO Energy Inc.; Pad ID: Dietterick; ABR-20100315.R2; Jordan Township, Lycoming County, Pa.; Consumptive Use of Up to 4.0000 mgd; Approval Date: April 30, 2020.

31. Repsol Oil & Gas USA, LLC; Pad ID: MORETZ (03 036) J; ABR-20100347.R2; Wells Township, Bradford County, Pa.; Consumptive Use of Up to 6.0000 mgd; Approval Date: April 30, 2020.

32. SWN Production Company, LLC; Pad ID: NR-24 BUCKHORN-PAD; ABR-201503004.R1; Oakland Township, Susquehanna County, Pa.; Consumptive Use of Up to 4.9990 mgd; Approval Date: April 30, 2020.

33. Cabot Oil & Gas Corporation; Pad ID: Depaola P1; ABR-20100343.R2; Dimock Township, Susquehanna County, Pa.; Consumptive Use of Up to 5.0000 mgd; Approval Date: April 30, 2020.

Authority: Pub. L. 91-575, 84 Stat. 1509 et seq., 18 CFR parts 806, 807, and 808.

Dated: May 14, 2020.
Jason E. Oyler,
General Counsel and Secretary to the Commission.

[FR Doc. 2020-10755 Filed 5-18-20; 8:45 am]

BILLING CODE 7040-01-P